DEPARTMENT OF COMMERCE

Foreign-Trade Zones Board

[B-72-2021]

Foreign-Trade Zone (FTZ) 93—Raleigh-Durham, North Carolina, Notification of Proposed Production Activity, BrightView Technologies, Inc. (Plastic Film), Durham, North Carolina

The Triangle J Council of Governments, grantee of FTZ 93, submitted a notification of proposed production activity to the FTZ Board (the Board) on behalf of BrightView Technologies, Inc. (BVT), located in Durham, North Carolina under FTZ 93. The notification conforming to the requirements of the Board's regulations (15 CFR 400.22) was received on November 5, 2021.

Pursuant to 15 CFR 400.14(b), FTZ production activity would be limited to the specific foreign-status material/component and specific finished product described in the submitted notification (summarized below) and subsequently authorized by the Board. The benefits that may stem from conducting production activity under FTZ procedures are explained in the background section of the Board's website—accessible via www.trade.gov/ftz.

The proposed finished product is plastic film with microstructures (duty rate 5.3%).

The proposed foreign-status material/component is polycarbonate film (duty rate 5.8%). The request indicates that the material/component is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 27, 2021.

A copy of the notification will be available for public inspection in the “Online FTZ Information System” section of the Board's website.

For further information, contact Elizabeth Whiteman at Elizabeth.Whiteman@trade.gov.

Dated: November 8, 2021.
Elizabeth Whiteman,
Acting Executive Secretary.

[FR Doc. 2021-24819 Filed 11-12-21; 8:45 am]

BILLING CODE 3510-DS-P